DEPARTMENT OF THE INTERIOR

Bureau of Reclamation

Central Arizona Project, Indian Distribution Division, San Carlos Apache Indian Reservation, Gila, Pinal, and Graham Counties, AZ

AGENCY: Bureau of Reclamation, Interior.

ACTION: Notice of Intent to Prepare an Environmental Impact Statement.

SUMMARY: Pursuant to the National Environmental Policy Act of 1969, as amended (NEPA), Reclamation proposes to prepare a draft environmental impact statement (EIS) regarding delivery of Central Arizona Project (CAP) water to the San Carlos Apache Reservation (Reservation). This draft EIS will evaluate anticipated environmental impacts from alternative methods of delivering CAP water and other water resources, provided under the San Carlos Apache Water Rights Settlement Act of 1992 (Act). Currently, nine conceptual options are being investigated. A No-Action alternative will also be analyzed. Public scoping meetings will be held to receive comments from affected and/or interested agencies and the general public on the environmental impacts, concerns, and issues that should be addressed in the EIS [see DATES].

DATES: To ensure consideration in the preparation of the draft EIS, written comments must be received by May 3, 2002 [see ADDRESSES, below]. The draft EIS is expected to be available for public review and comment in April 2003.

Public scoping meetings are schedule to be held on:

• April 10, 2002, 5-8 p.m. in Bylas, Arizona.

• April 11, 2002, 5-8 p.m. in San Carlos, Arizona.

ADDRESSES: Send written comments to Mr. Bruce Ellis, Chief, Environmental Resources Management Division, Bureau of Reclamation, Phoenix, Area Office (PXAO-1500), PO Box 81169, Phoenix, AZ 85069-1169; faxogram 602-216-4006.

The hearings will be held at the following locations:

• Bylas—Stanley Hall, Highway 70, Bylas, Arizona.

• San Carlos—Burdette Hall, San Carlos Avenue, San Carlos, Arizona.

FOR FURTHER INFORMATION CONTACT: Mr. John McGlothlen at the above address, telephone 602-216-3866.

SUPPLEMENTARY INFORMATION: The purpose of the project is to deliver CAP water, and other water resources to the Reservation provided by the Act, to sustain and expand the San Carlos Apache Tribe's (Tribe) agricultural base and for other Tribal homeland purposes, in a manner that enhances efficient development, management, and delivery of Tribal water resources.

The Reservation encompasses about 2,960 square miles in portions of Gila, Graham, and Pinal Counties in east-central Arizona. Approximately 12,000 people live on the Reservation and rely on its local water resources for domestic, municipal, agricultural, and industrial supply. Local water resources include flows of the Gila, Black, and Salt Rivers, other surface waters, and ground-water supplies which are available beneath the Cutter basin, San Carlos and Gila River valleys, and other areas of the Reservation. San Carlos Reservoir is another important local water resource.

In December 1980, the Tribe signed a CAP Indian Water Delivery Contract with the United States. The CAP Indian Water Delivery Contract entitles the Tribe to 12,700 acre-feet per year of CAP Project Water, commits the United States to deliver Project Water to the Tribe, provides for exchange of Project Water to accomplish the contractual obligations, and sets forth the terms for repayment of construction and operation, maintenance, and replacement costs.

In 1992 Congress enacted the Act, which confirms and ratifies an Agreement entered into by the Tribe and neighboring non-Indian communities of the Salt and Gila River valleys regarding water rights claims between and among themselves, and authorizes the actions and appropriations necessary for the United States to fulfill its obligations to the Tribe as provided in the Agreement and the Act.

The total amount of water allocated to the Tribe and available for delivery to the Reservation under the CAP Indian Water Delivery Contract and the Act is 71,445 acre-feet per year. In addition, at least 6,000 acre-feet per year are also available to the Reservation as a result of the Gila River Decree. Portions of the Act not specific to the CAP include 7,300 acre-feet per year from the Black and/or Salt Rivers and water from local Tribal water sources. The total volume of water that will be considered in project planning is 77,445 acre-feet per year, plus any water that may be available from local Tribal sources.

The draft EIS will evaluate reasonable alternative methods of delivering the CAP water and other waters described above to satisfy the project purposes. The development, evaluation, and selection of alternatives will begin with the identification of a broad list of project concepts that will be subjected to a feasibility screening based upon cultural, social, economic, technical, environmental, and legal factors. To date, nine project concepts have been identified for screening. These are as follows:

• Diversion from San Carlos Reservoir and conveyance via a canal to recharge portions of Cutter Basin and irrigate approximately 9,100 acres of Ranch Creek, Seven Mile Wash, San Carlos River, and neighboring areas;

• Diversion from the Black River and conveyance via a tunnel and the existing channel of Rocky Gulch to recharge portions of the San Carlos Basin and irrigate approximately 11,000 acres of Seven Mile Wash, Sycamore Creek, Natural Corral Creek, San Carlos River, and neighboring areas;

• Diversion from the Black River and conveyance via a tunnel and the existing channel of Rocky Gulch for storage behind Elgo Dam and to irrigate approximately 9,500 acres of Seven Mile Wash, Sycamore Creek, Natural Corral Creek, San Carlos River, and neighboring areas;

• Diversion from San Carlos Reservoir and conveyance via canals to irrigate approximately 9,100 acres adjacent to the Gila River and in portions of the Ranch Creek, Gibson Wash, Seven Mile Wash, Sycamore Creek, Natural Corral Creek, San Carlos River, and neighboring areas;

• Diversion from the Black River and conveyance via a tunnel to a reservoir constructed on Rocky Gulch, then conveyance via the existing channel of Rocky Gulch for storage behind Elgo Dam and to irrigate approximately 12,800 acres in portions of the Ranch Creek, Gibson Wash, Seven Mile Wash, Sycamore Creek, Natural Corral Creek, San Carlos River, and neighboring areas;

• Diversion from the Gila River at a point east of Bylas, and conveyance via gravity to irrigate approximately 1,000 acres adjacent to the Gila River;

• Construction of a diversion dam on the Gila River at a point east of Bylas, and conveyance to irrigate approximately 8,200 acres adjacent to the Gila River and in portions of the San Carlos River watershed;

• Diversion from the Black River at a point near the confluence with Freezeout Creek, with conveyance via a canal to a reservoir constructed on Turkey Creek, to irrigate approximately 5,300 acres in the Turkey and Willow Creek areas;

• Diversion from the Black River at a point near the confluence with Freezeout Creek, with conveyance via a tunnel and canal to a reservoir constructed on Bonita Creek, to irrigate approximately 10,200 acres in the Ash and Bonita Creeks and neighboring areas.

Public Meetings and Written Comments

The public will be invited to participate in the scoping process, and in review of the draft EIS. Additional descriptive information will be made available to interested parties prior to the public scoping meetings. Anyone interested in obtaining additional descriptive information prior to the public scoping meetings should contact John McGlothlen [see FOR FURTHER INFORMATION CONTACT]. At each public scoping meeting, the Tribal CAP Project team will make a short presentation. Oral and written comments from the audience will then be accepted. A court reporter will make a written record of all oral comments made.

Written comments received by Reclamation become part of the public record associated with this action. Accordingly, Reclamation makes these comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. However, we will not consider anonymous comments. We will make all submissions from organizations or businesses, and from individuals identifying themselves as representatives or officials of organizations or businesses, available for public disclosure in their entirety.

Note: Hearing impaired, visually impaired, and/or mobility impaired persons planning to attend this meeting may arrange for necessary accommodations by calling Ms. Janice Kjesbo at Reclamation's Phoenix Area Office, telephone 602-216-3864 or faxogram 602-216-4006, no later than two weeks prior to the meeting date.

Dated: February 14, 2002.
Robert W. Johnson,
Regional Director.

[FR Doc. 02-4319 Filed 2-21-02; 8:45 am]

BILLING CODE 4310-MN-P